DEPARTMENT OF HOMELAND SECURITY

Coast Guard

46 CFR Part 67

[Docket No. USCG-2020-0215]

RIN 1625-AC26

Certificate of Documentation—5 Year Renewal Fees

AGENCY: Coast Guard, DHS.

ACTION: Final rule.

SUMMARY: The Coast Guard is issuing a final rule extending the validity of a recreational vessel endorsement on a Certificate of Documentation (COD) from 1 to 5 years. Congress passed and the President signed the Frank LoBiondo Coast Guard Authorization Act of 2018, which requires the Coast Guard to issue recreational vessel CODs for 5 years. By updating the Code of Federal Regulations to reflect this change, the Coast Guard anticipates this final rule to harmonize with the requirements of the 2018 Act that decreased the burden on recreational vessel owners by requiring COD renewals every 5 years rather than annually.

DATES: This final rule is effective February 18, 2021.

ADDRESSES: To view documents mentioned in this preamble as being available in the docket, go to https://www.regulations.gov, type USCG-2020-0215 in the “SEARCH” box and click “SEARCH.” Click on Open Docket Folder on the line associated with this rule.

FOR FURTHER INFORMATION CONTACT: For information about this document, call or email Mr. Ronald Teague, Department of Homeland Security, U.S. Coast Guard, National Vessel Documentation Center, 792 T J Jackson Drive, Falling Waters, WV 25419; telephone 304 271-2506; email ronald.s.teague@uscg.mil.

SUPPLEMENTARY INFORMATION:

Table of Contents for Preamble

I. Abbreviations

II. Basis and Purpose, and Regulatory History

III. Background

IV. Discussion of the Rule

V. Regulatory Analyses

A. Regulatory Planning and Review

B. Small Entities

C. Assistance for Small Entities

D. Collection of Information

E. Federalism

F. Unfunded Mandates

G. Taking of Private Property

H. Civil Justice Reform

I. Protection of Children

J. Indian Tribal Governments

K. Energy Effects

L. Technical Standards

M. Environment

I. Abbreviations

2018 Act Frank LoBiondo Coast Guard Authorization Act of 2018 (Pub. L. 115-282, 132 Stat. 4192)

BLS Bureau of Labor Statistics

CFR Code of Federal Regulations

COD Certificate of Documentation

DHS Department of Homeland Security

FR Federal Register

NPRM Notice of proposed rulemaking

NVDC U.S. Coast Guard National Vessel Documentation Center

OMB Office of Management and Budget

§ Section

SME Subject matter expert

U.S.C. United States Code

II. Basis and Purpose, and Regulatory History

The legal basis for this final rule is found in Section 512 of the Frank LoBiondo Coast Guard Authorization Act of 2018 (2018 Act) (Pub. L. 115-282, 132 Stat. 4192) (the 2018 Act), which the President signed on December 4, 2018. The 2018 Act directed the Coast Guard to do the following: (1) Make Certificates of Documentation (CODs) for recreational vessels of at least five net tons ¹ effective for 5 years; and (2) require owners of recreational vessel of at least five net tons to notify the Coast Guard of each change in the information on which the issuance of the COD is based. Vessel owners must report each change of information that occurs before expiration of the certificate not later than 30 days after such change. This rulemaking is issued under authority found in Title 46 of the United States Code (U.S.C.) 2103.

¹ 46 U.S.C. 12103 provides, in pertinent part, “Except as otherwise provided, a certificate of documentation for a vessel may be issued under this chapter only if the vessel is—. . .(2) at least 5 net tons as measured under part J of this subtitle; . . .”

The Coast Guard finds that good cause exists under the Administrative Procedure Act, 5 U.S.C. 553, to dispense with notice and comment procedures. Prior notice and opportunity to comment on this rule are unnecessary under 5 U.S.C. 553(b)(3)(B) because Section 512 of the 2018 Act provides the Coast Guard no discretion in adopting the specific time frames for renewal of recreational vessel CODs. The 2018 Act does not allow for alternatives. It does not permit the Coast Guard to decide upon a different time frame for renewal, choose to adopt a different renewal period, or respond to public comments by modifying the substance of the rule. Soliciting public comment on the correct time period for COD renewal for a recreational vessel, or on the decision to update the regulations to comport with the statutory mandate, is unnecessary and would in fact be futile.² It should be noted that the Coast Guard has already implemented the requirements of Section 512 of the 2018 Act and is presently issuing multi-year CODs to recreational vessels of at least 5 net tons.

² See Metzenbaum v. Federal Energy Regulatory Commission, 675 F. 2d 1282, 1291 (D.C. Cir. 1982) (finding notice and comment unnecessary for nondiscretionary acts where notice and comment “might even have been contrary to the public interest, given the expense that would have been involved in a futile gesture.”) (internal quotation marks omitted).

III. Background

Section 512 of the 2018 Act directs how the Coast Guard must administer its certificate of documentation program, and this rule conforms sections in Title 46 of the Code of Federal Regulations (CFR) part 67 to reflect what is now the law. As described above, the Coast Guard finds that good cause exists to forego notice and comment rulemaking because the statute provides the Coast Guard with no discretion to exercise in response to comments. Accordingly, the Coast Guard did not issue a notice of proposed rulemaking. This final rule only amends the regulations so that they are in agreement with the requirements already in the law.

The purpose of this final rule is to meet the Congressional mandate contained in Section 512 of the 2018 Act, in which Congress requires the Coast Guard to issue recreational endorsements on CODs with a validity of 5 years. Additionally, the 2018 Act directs the Coast Guard to establish phased user fees for 5-, 4-, 3-, 2-, and 1-year recreational endorsements. After the phase-in period is complete, on December 31, 2021, applicants will only be able to apply for a 5-year recreational endorsement.

In accordance with 46 U.S.C. 12105(e)(2)(C), the cost of the user fee will be calculated by multiplying 5 years by the recently established $26 annual fee, for a total of $130.³ The 5-year fee is consistent with statute and will ensure that the Coast Guard collects the appropriate user fees, consistent with the cost to provide the service. The new fee for a 5-year recreational endorsement will be in addition to the fee collected for initial and exchanges of CODs.

³ See 79 FR 47015, 47106 (Aug. 12, 2014).

Lastly, this final rule repeats the requirement in the 2018 Act for vessel owners to notify the Coast Guard of each change in the information on which the issuance of the COD for the vessel is based, before the expiration of the COD and no later than 30 days after the change. The COD will terminate upon the expiration of the 30-day period if the owner has not notified the Coast Guard of changes within the 30-day timeframe.

IV. Discussion of the Rule

On March 3, 2015, the Coast Guard published a request for comments, specifically seeking input on increasing the validity period for renewing CODs, methods for doing so, and possibly updating the fee for services (80 FR 11361). We received 2,844 comments in response to our notice, largely in support of a multiyear registration option. However, our request for comments was superseded by section 311 of the Coast Guard Authorization Act of 2015 (Pub. L. 114-120), and again by the Frank LoBiondo Coast Guard Authorization Act of 2018 (Pub. L. 115-282), which specifically directed the Coast Guard to change the validity period of CODs for recreational vessels to a 5-year option only, after a 3-year phase-in period during which vessel owners could choose 1, 2, 3, 4, or 5 years.

There are no maritime safety or security reasons to change the recreational vessel COD validity from 1 year to 5. However, Congress determined that a change in the validity was in the best interest of recreational vessel owners, and the Coast Guard is required to recoup the costs of providing a service.⁴ To ensure the appropriate user fees are collected for 5-year CODs, the Coast Guard will collect fees consistent with the annual cost multiplied by 5, as required by section 512 of the 2018 Act.

⁴ 46 U.S.C. 2110.

Currently, 46 CFR 67.163(a) states that all endorsements on a COD, including commercial vessel CODs, are valid for 1 year. In this final rule, the Coast Guard is amending this section to reflect what is already stated in the 2018 Act: That only commercial vessel CODs are valid for one 1 year, and that recreational endorsements are valid for 5 years. Additionally, the amendment clarifies that a vessel with both recreational and commercial endorsements must renew annually. The Coast Guard is also amending § 67.163(b) to reflect the appropriate renewal application, as the currently listed form no longer exists. Lastly, as the 2018 Act requires, the Coast Guard is adding paragraph (c) to § 67.163 to establish the 5-year renewal requirement and inform recreational vessel owners that they have the option to renew recreational endorsements for durations of 1, 2, 3, 4, or 5 years during the phase-in period. The ability for the owner to select validity is only in effect from January 1, 2019, to December 31, 2021.

The Coast Guard is amending § 67.317 to reflect that recreational endorsements must be renewed every 5 years. The Coast Guard is also amending § 67.319 to reflect that an owner of a vessel that has a change of information on which the issuance of the COD of the vessel is based must notify the Coast Guard of the change of information within 30 days, as is required by section 512 of the 2018 Act. Furthermore, the Coast Guard is amending this section to reflect that the vessel's COD will be terminated if the owner fails to notify the Coast Guard within 30 days of any changes on which the issuance of the COD is based. The Coast Guard is also amending § 67.515 to remove the word “annual” in describing endorsement renewals.

Finally, the Coast Guard is amending table 1 to § 67.550 to reflect the appropriate fee for a 5-year recreational endorsement, and the fees associated with the owner choosing to have a certificate issued or renewed for 1, 2, 3, 4, or 5 years from January 1, 2019, to December 31, 2021.

V. Regulatory Analyses

We developed this final rule to reflect current law, in accordance with numerous statutes and Executive orders related to rulemaking. Below, we summarize our analyses based on these statutes or Executive orders.

A. Regulatory Planning and Review

Executive Orders 12866 (Regulatory Planning and Review) and 13563 (Improving Regulation and Regulatory Review) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. Executive Order 13771 (Reducing Regulation and Controlling Regulatory Costs) directs agencies to reduce regulation and control regulatory costs and provides that “for every one new regulation issued, at least two prior regulations be identified for elimination, and that the cost of planned regulations be prudently managed and controlled through a budgeting process.”

The Office of Management and Budget (OMB) has not designated this rule a “significant regulatory action” under section 3(f) of Executive Order 12866. Accordingly, OMB has not reviewed it. DHS considers this rule to be an Executive Order 13771 deregulatory action. See the OMB Memorandum titled “Guidance Implementing Executive Order 13771, titled `Reducing Regulation and Controlling Regulatory Costs' ” (April 5, 2017). Details on the estimated cost savings of this final rule can be found in the rule's regulatory analysis (RA) that follows.

Following guidance in OMB Circular A-4, we assess the impacts of this rule against a no-action baseline as well as a pre-statutory baseline. The no-action baseline is an assessment against what the world would be like if the rule is not adopted. The pre-statutory baseline is an assessment against what the world would be like if the relevant statute had not been adopted.

This final rule will codify requirements in the 2018 Act that established a new schedule for the renewal of CODs for owners of recreational vessels of at least 5 net tons. Since the final rule does not add any new requirements beyond what is already required and implemented under the 2018 Act, under a no-action baseline, its total impacts on costs, cost savings, and benefits is zero.

We also present impacts of the final rule based on a pre-statutory baseline. In other words, in the analysis that follows, we present the impacts of the 2018 Act by comparing the requirements of this rule to a baseline prior to implementation of the 2018 Act.

Summary of Impacts (Pre-Statutory Baseline)

Prior to the 2018 Act, CODs were effective for one year. The 2018 Act, codified by this rule, creates savings due to a reduction in the time necessary for the submission and approval of COD renewals. We anticipate that approximately 165,309 recreational vessel owners will be affected annually. In addition, the Government will be affected because the number of annual renewals the Coast Guard processes will decline. We estimate that the industry for recreational vessel owners of vessels of at least 5 net tons will see a savings of $696,727 annualized over 10 years, and the Coast Guard will reduce spending on administrating COD renewals by an annualized amount of approximately $997,345. Both cost savings are in $2018, discounted at 7 percent. We estimate the annualized cost savings to industry and the Government combined to be approximately $1.7 million, discounted at 7 percent.

Table 1 presents a summary of the economic impacts. We provide a detailed description of the estimates in the next section of this analysis.

Table 1—Summary of the Economic Impact
[Pre-statutory baseline]
Description | Affected population | Cost | Cost savings | Benefits
Require owners of recreational vessels of at least 5 net tons to renew CODs every 5 years, thereby making CODs effective for a 5-year term instead of a 1-year term | Estimated average annual population over a 10-year period of analysis of owners of recreational vessels affected by the 2018 Act (and codified by this regulation) is 165,309 vessels | The 2018 Act will not impose any cost burden on industry | The affected industry will see a 10-year annualized savings of $696,727. In addition, the government will see a 10-year annualized savings of $997,345; both estimates are discounted at 7 percent | The restructuring of CODs from an annual renewal to a 5-year renewal period will reduce the industry's annual time burden for submitting COD applications. In addition, the Government will benefit due to a reduction in the amount of applications processed annually.
Vessel owners are currently required to update changes that impact information attested to on the COD. Since the 2018 Act requires renewal every 5 years instead of annually, a provision within this final rule is clarifying that owners need to amend any changes to CODs within 30 days of said changes occurring | Recreational vessel owners impacted by the 2018 Act would be affected by the provision in § 67.319 of this final rule | No cost. This is clarifying a requirement to keep COD information current and will not impose any cost burden | There are no savings associated with this provision | There are no benefits associated with this provision, other than clarifying when changes to COD information must be addressed.
The fee schedule in Table 1 in § 67.550 provides owners with information about the applicable fees for obtaining the CODs for their vessels | The affected population is those owners under 46 CFR part 67, subpart Y | No cost. This clarifies information about the fees associated with CODs | No savings. This is clarification only | There are no benefits associated with the updated table. It is updating the cost schedule to account for the change to a 5-year renewal.

The 2018 Act requires owners of recreational vessels of at least 5 net tons to renew their CODs every 5 years. Owners were to begin phase-in starting January 1 of 2019.

Population

We estimate that there are an average of 162,647 recreational vessels in service in a given year that have a COD. The certification and documentation of recreational vessels comes with rights as well as responsibilities that entitle vessel owners the protection under the U.S. flag.

There are two reasons for documenting a recreational vessel. The first reason is voluntary, for qualified recreational vessels that are at least 5 net tons, thereby granting them protection under the U.S. flag. The second reason is to satisfy mortgage lender requirements.

Documenting recreational vessels occurs according to five criteria:

(1) As a result of the initial documentation of a newly produced vessel (not documented);

(2) As a result of the initial documentation of a newly acquired existing vessel, not previously documented;

(3) As an exchange of the vessel from one party to another;

(4) As a reinstatement or replacement of a vessel; or

(5) As a return to documentation of a vessel.

The data used to formulate the affected population is provided by the Coast Guard's National Vessel Documentation Center (NVDC), which is the approving authority for the issuance of CODs. The NVDC provides CODs according to the criteria presented above. The information we present in this analysis uses NVDC data for the affected population over a 5-year period, from 2013 to 2017.⁵ Based on this data, we estimate the average existing number of owners obtaining CODs in a given year to be 162,309, of which 7,402 (or 4.6 percent) are initial CODs. We assume this is the number of CODs that would have been renewed annually in the absence of the 2018 Act.

⁵ Information pertaining to the historical data can be found in the Appendix, under the supporting documents in the docket, where indicated in the ADDRESSES portion of the preamble. The data for 2013 to 2017 is as follows: 171,293; 160,669; 156,552; 155,221; 167,810.

To estimate the number of CODs for new vessels entering into use each year, we use the NVDC data to estimate the number of new owners requesting initial CODs as a percent of total CODs. We base our estimate on 4.6 percent, as this represents the average increase of CODs (7,402 [average number of initial CODs] divided by 162,309 [average total number of CODs]).

The number of new vessels entering into use will vary slightly every year. However, based on historical data, we can expect their average annual rate to converge to a steady figure. Assuming this subset (new vessel CODs) of initial CODs is, on average, consistent with the average increase of the total COD population (4.6 percent annually), we can then assume that, on an annual basis, 338 new vessels owners will request CODs each year (7,402 average initial CODs multiplied by 4.6 percent). We then add 338 to 162,309 to obtain 162,647, the average total population of CODs. We use this total population estimate to derive the number of CODs that will not need to renew as a result of the 2018 Act (which is codified by this regulation). As is presented in the cost savings section below, this annual estimate varies per year according to the five different annual certification criteria and the 3-year phase-in period.

Cost Savings

Industry Assessment

As a result of the 2018 Act, the Coast Guard will no longer require owners of recreational vessels to renew their CODs annually. Therefore, the 2018 Act will not impose any cost; only cost savings will be realized by the affected population.

As of January 1, 2019, owners have been able to select a renewal period of multiple years, up to a limit of 5 years. This cost savings assessment outlines the Coast Guard's anticipated industry adaptation of moving to a 5-year renewal period.

The 2018 Act provides that vessel owners will have 3 years (starting January 1, 2019 and ending December 31, 2021) to select a timeframe for COD renewal that does not exceed 5 years. Hence, vessel owners can choose any timeframe from 1 to 5 years during this 3-year period. Beginning January 1, 2022, all recreational CODs will be renewed with a validity period of 5 years. Therefore, in order to formulate the best approximation of how owners will select their renewal periods during the phase-in period, we make the assumption that equal portions of the affected population selected a renewal period of 1 to 5 years in 2019.

Since the Coast Guard is unable to determine individual preferences regarding how owners will choose a renewal term during the phase-in period, our methodology anticipates cost savings throughout a 10-year period of analysis (2019-2028).⁶ We begin by acknowledging that all active CODs had to be renewed in 2019. Therefore, when renewing or receiving an initial COD in 2019, all made a decision as to when they would renew their next COD. Accordingly, for the first year of the 10-year assessment period, 2019, no one within the affected population received any savings.⁷ Therefore, savings begin in 2020.

⁶ The Coast Guard has collected 2019 data about the behavior of owners towards selecting a new renewal period. However, the data was too incomplete to formulate an accurate representation of the affected population's choices in that year. In addition, because 2019 is the only year for which the Coast Guard has information, this data does not provide enough information (statistically) to develop a trend analysis to project actual changes in behavior. Therefore, we have elected to proceed with analyzing this regulatory assessment by equally dividing the affected population over a 5-year period, resulting in 80% of the annual population not renewing their CODs in a given year.

⁷ Further information can be found in the Appendix, under supporting documents in the docket, where indicated in the ADDRESSES portion of the preamble.

To conduct this assessment, we create five subcategories (divided equally) of the affected population, and assign each category a specific year for renewal. Any owner who selects a timeframe for renewal greater than 2 years, or beyond 2021 (60 percent of the affected population), will have their follow-on renewals occurring every 5 years after their initial renewal choice. However, we assume that those who select a timeframe of 1 or 2 years (which we refer to as groups A and B), will not necessarily renew their CODs in 5 years. Since groups A and B have chosen the option of renewing in 1 or 2 years, which falls within the phase-in period, they will be given another opportunity to select a renewal period of 1 to 5 years at the time of their renewal.⁸ Since groups A and B will, again, have the option of selecting a renewal period of 1 to 5 years, we again partition, within each group, equal portions of owners selecting 1 to 5 years renewal. Once an individual in group A and B selects a renewal period that goes beyond 2021, their follow-up renewal will occur on a 5-year renewal cycle. In Table 2 we present a summary outline as to how we estimate the number of non-renewals occurring during a 10-year period of analysis. Further details about how we estimated the number of renewals and avoided renewals can be found in the Appendix, under supporting documents in the docket, where indicated in the ADDRESSES portion of the preamble.

⁸ Because we are unable to determine how or why owners make their financial decisions, we assume that groups A and B are not inclined to make a long-term commitment (beyond year 2021) due to projected or un-projected future financial plans. Therefore, we assume that short-term financial decisions will direct them to select a shorter term of 1 or 2 years. For the years following 2021, we assume renewals will be conducted every 5 years. For this illustrative analysis, we break down the renewals in equal annual portions over the five-year period. However, the Coast Guard recognizes that renewal numbers could vary over the 5-year period for several reasons, including the possibility the owners could get rid of their vessels prior to the renewal term.

Table 2—Summary of Potential Non-Renewing COD Population Over 10-Year Period of Analysis ⁹
[Pre-statutory baseline]
| Potential non-renewing population: Phase-in period: 2019 | Potential non-renewing population: Phase-in period: 2020 | Potential non-renewing population: Phase-in period: 2021 | Potential non-renewing population: 5-year renewal period: 2022 | Potential non-renewing population: 5-year renewal period: 2023 | Potential non-renewing population: 5-year renewal period: 2024 | Potential non-renewing population: 5-year renewal period: 2025 | Potential non-renewing population: 5-year renewal period: 2026 | Potential non-renewing population: 5-year renewal period: 2027 | Potential non-renewing population: 5-year renewal period: 2028
COD applications under the baseline (A) | 162,647 | 162,647 | 162,647 | 162,647 | 162,647 | 162,647 | 162,647 | 162,647 | 162,647 | 162,647
COD applications under the 2018 Act (B) | 162,647 | 32,867 | 39,441 | 47,329 | 47,329 | 47,329 | 14,800 | 8,226 | 47,667 | 47,667
Avoided COD applications (A-B) | 0 | 129,780 | 123,206 | 115,317 | 115,317 | 115,317 | 147,846 | 154,421 | 114,978 | 114,979
Note: Values may not add due to rounding.

The summary in Table 2 provides an approach as to how industry may react to the changes in the renewal process. In addition, it provides the affected population, which serves as a basis for cost savings throughout the 10-year period of analysis.

⁹ An expanded population matrix appears in the appendix, which can be found in the supporting documents in the docket, where indicated under the ADDRESSES portion of this preamble.

All savings realized will be administrative, from the perspective of vessel owners and the Government. Because the 2018 Act changed annual renewals to a 5-year renewal period, owners will spend less time submitting paperwork for renewing their CODs. In addition to the savings that owners will receive, the industry as a whole will see a reduction in paperwork (see Paperwork Reduction Act in section V. D of the preamble to this final rule).

In order to obtain a wage rate for our calculations, to determine the amount of savings incurred by this rulemaking, we first identify the individual(s) who submit the renewal form (CG-1280) to the Coast Guard. Using the 2018 wage rate data from the Bureau of Labor Statistics (BLS) website, we obtain the employee wage that most resembles the persons tasked with renewing CODs as Transportation Employment, Storage and Distribution Managers (OES code 11-3071). The mean hourly wage rate associated with this profession, as reported by BLS, is $49.45 per hour.¹⁰ In order to account for employee benefits, we apply a load factor to the mean hourly wage rate. We calculate the load factor from BLS's Employer Cost for Employee Compensation survey and apply it to the mean hourly wage rate to obtain a fully loaded wage rate, which more accurately represents the employers' cost per hour for employees' work.¹¹ The load factor we used for this economic assessment is 1.52.¹² The loaded mean hourly wage rate we used to assess the savings estimates is calculated at $75.16 ($49.45 multiplied by 1.52).

¹⁰ Information about the wage rates for Transportation, Storage and Distribution Managers (11-3071) can be found at https://www.bls.gov/oes/2018/may/oes113071.htm.

¹¹ A loaded wage rate is what a company pays per hour to employ a person, not the hourly wage the employee receives. The loaded wage rate includes the cost of benefits (health insurance, vacation, etc.).

¹² From the BLS, Employer Cost for Employee Compensation survey. The load factor for wages is calculated by dividing total compensation by wages and salaries. For this report, we used the Transportation and Materials Moving Occupations, Private Industry report (Series IDs, CMU2010000520000D and CMU2020000520000D for Total Compensation and Wages and Salaries, respectively, not seasonally adjusted) for all workers using the multi-screen data search. Using 2018 4th quarter data, we divide $29.53/$19.42 to obtain a load factor of 1.52. See https://data.bls.gov/cgi-bin/dsrv?cm.

From the Supporting Statement for Vessels Documentation collection of information (OMB Control No. 1625-0027), we obtain the amount of time (or time burden) necessary for filling out the renewal documentation as 5 minutes. Applicants may submit the renewal form CG 1280 through regular postal service or through the internet. For the proportion of those submitting form CG-1280 through the internet, annual renewal is about 28 percent ¹³ of the affected population, while the remaining 72 percent continue utilizing the postal service for their submissions. We estimate that the cost of submitting a renewal form via postal service is 0.55 cents (the cost of a first-class postage stamp), while those who submit the form through the internet incur no additional mailing costs. There are no associated savings with submitting the form online, as we assume that for those choosing that method, internet service is an established part of business operations.

¹³ The NVDC provided their assessment on renewal submissions that will be received via internet.

Table 3—Summary of Values Used To Formulate Savings
[Pre-statutory baseline]
| Burden hours | HR equivalent
From collection of information | 5 Min | 0.08
YR-2018 | Hourly Wage | $49.45
| Load Rate | 1.52
| Total Wage Rate | $75.16
| Submission Cost | ** $0.55
| Percent of Submission | 100%
| Letter Carrier | 72%
| Via Internet | 28%
** This cost is only associated with submission of the renewal documentation via letter carrier.

We estimate the savings of this 10-year assessment by combining the information found in Tables 2 and 3. From Table 2, we anticipate how industry will react to changes in the certification renewal process. Therefore, the calculations for determining savings are as follows: Since the number of affected population throughout the 10-year assessment is not uniform, we utilize a sample year to explain how we obtain savings. From table 2, we use the year 2024 as an example. We estimate the number of the affected population for 2024 not renewing their CODs to be about 115,317. The amount of cost savings associated with not having to fill out the request for certification, per person, is estimated at $6.01 ($75.16 loaded wage rate multiplied by 0.08 time burden associated with filling out documentation). Multiplying the affected population in 2024 by the potential savings of $6.01 due to the reduction in time burden results in administrative savings for that year of $693,061. We then account for the cost of submitting the application, at $0.55 for 72 percent of the population in that year, adding an additional cost savings of about $45,666 (72 percent of 115,317 [the affected population in 2024] equals 83,029 multiplied by $0.55 [the cost of a first-class stamp]). The resulting total cost savings for year 2024 is approximately $738,723 (non-discounted). Table 4 provides a 10-year summary of cost savings that industry will realize.

Table 4—Summary of 10-Year Assessment of Industry Cost Savings, in $2018
[Pre-statutory baseline]
Year | Cost savings non-discounted | Cost savings discounted 3% | Cost savings discounted 7%
2019 | No savings in first year
2020 | $831,371 | $783,647 | $726,151
2021 | 789,251 | 722,277 | 644,264
2022 | 738,721 | 656,344 | 563,566
2023 | 738,723 | 637,229 | 526,700
2024 | 738,723 | 618,669 | 492,243
2025 | 947,104 | 770,082 | 589,809
2026 | 989,211 | 780,892 | 575,730
2027 | 736,549 | 564,504 | 400,634
2028 | 736,558 | 548,069 | 374,429
Total | 7,246,212 | 6,081,712 | 4,893,526
Annualized |  | 712,962 | 696,727
Note: Values may not add due to rounding.

Summarizing Table 4, we note that industry will not incur any cost savings during the first year of our assessment, since the entire affected population had to renew in 2019 and, in that year, make a determination regarding their next renewal date.¹⁴ However, after the first year, industry will begin to realize savings due to the extended renewal period provided by the 2018 Act. We estimate that the total 10-year savings is $4.9 million, and the annualized savings is $0.697 million, both discounted at 7 percent.

¹⁴ In 2019, all CODs were still affected by pre-mandated regulations, which means all CODs were renewed. For more information on the distribution of the population, please see the Appendix in the docket.

Government Assessment

The 2018 Act also affects the Federal government by reducing the amount of renewal applications it will process in a given year. The anticipated reduction in the administration of renewal applications is correlated to the anticipated reduction in the number of the affected population renewing their CODs in a given year. The Government's reduction in approved certification will follow the data found in Table 2.

The COD approval is a two-phase process, in which the Government initiates, as a courtesy, the renewal process, and then, in the processing phase, issues the CODs to vessel owners. The first phase, initiating a request for vessel owners to renew their annual CODs, is accomplished by sending CG-1280 Vessel Renewal Notification Application for Renewal mailers to vessel owners approximately 45 days prior to the expiration date of their current CODs. The first step of this phase is to determine who is eligible for renewal and to remind current COD holders that their COD is expiring within 45 days. Once that is accomplished, all material relating to renewal notices, to include metered mail, is processed and sent to vessel owners. In the second step, the Government receives the application packet from owners, which is reviewed and approved prior to issuance of the COD.

The Government employees assigned the duties of initiating renewal notices are classified as GS-5 and GS-7-employees. Subject matter experts (SMEs) estimate the individual cost of sending a renewal notice at approximately $3.05.¹⁵ To estimate the annual reduction in cost to the Government, we multiply the individual cost of annual notifications by the number of vessel owners not submitting annual renewals in a given year. Table 5 shows the estimated cost savings, per year, that the Government will realize from a reduction in the annual number of notifications sent out to owners of recreational vessels.

¹⁵ The NVDC provided the information pertaining to government expenditure from a draft study they commissioned through an independent third party. At the time of publishing this assessment, the document has not been made available to the public.

Table 5—Estimated Government Savings for Initiating COD Renewals in $2018
[Pre-statutory baseline]
Year | Estimated reduction in applications | Government savings non-discounted
2019 | 0 | 0
2020 | 129,780 | $395,829
2021 | 123,205 | 375,775
2022 | 115,317 | 351,717
2023 | 115,317 | 351,718
2024 | 115,317 | 351,718
2025 | 147,846 | 450,932
2026 | 154,419 | 470,979
2027 | 114,978 | 350,683
2028 | 114,979 | 350,687
Total |  | 3,450,039
Note: Values may not add due to rounding.

The second phase of the process involves the Government receiving the renewal applications from vessel owners, processing those applications, and then issuing the CODs. The Government employees responsible for reviewing the applications and granting CODs are also classified as GS-5 and GS-7 employees. According to data provided by the SME, it takes a GS-5 9 minutes to process a renewal application, at a cost of $5.40 per renewal.¹⁶ Additionally, it takes a GS-7 approximately 1 minute to approve a COD, at a cost of $0.72 per renewal request.¹⁷ The individual cost of finalizing the renewal process, to include mailing the certificates, is estimated at $6.12 per renewal.¹⁸ The savings that the Government will realize from approving and issuing CODs will be the number of owners not submitting COD renewals in a given year. Table 6 shows the estimated savings, annually, that the Government will realize from a reduction in processing renewal applications.

¹⁶ The NVDC provided the information pertaining to government expenditure from a draft study they commissioned from an independent third party. At the time of publishing this assessment, the document has not been made available to the public.

¹⁷ Ibid.

¹⁸ The estimated cost was obtained by combining the administrative cost of a Clerk 1, $5.40 ($.60 wage per minute multiplied by 9 minutes of administrative time), and a Clerk 2, $.72 ($.72 wage rate per minute multiplied by 1 minute of administrative time). Total administrative cost burden is $6.12 ($5.40 plus $.72) per applicant.

Table 6—Estimated Government Saving for Processing and Granting COD Renewals in $2018
[Pre-statutory baseline]
Year | Estimated reduction in applications received | Cost savings non-discounted
2019 | 0 | 0
2020 | 129,780 | $794,254
2021 | 123,205 | 754,015
2022 | 115,317 | 705,740
2023 | 115,317 | 705,743
2024 | 115,317 | 705,743
2025 | 147,846 | 904,820
2026 | 154,419 | 945,047
2027 | 114,978 | 703,665
2028 | 114,979 | 703,674
Total |  | 6,922,700
Note: Values may not add due to rounding.

We estimate the 10-year combined (initial phase and processing phase) cost savings that the Government will realize at $10,372,739 (non-discounted). We estimate the total discounted cost savings at $7,004,938, and annualized cost savings of $997,345, both discounted at 7 percent. Table 7 shows the total estimated Government cost savings over the 10-year period of analysis.

Table 7—Estimated Total Government Cost Saving, in $2018
[Pre-statutory baseline]
Year | Non-discounted cost savings | 3% | 7%
2019 | No savings first year
2020 | $1,190,083 | $1,121,766 | $1,039,464
2021 | 1,129,790 | 1,033,917 | 922,245
2022 | 1,057,457 | 939,536 | 806,729
2023 | 1,057,461 | 912,175 | 753,955
2024 | 1,057,461 | 885,606 | 704,631
2025 | 1,355,752 | 1,102,350 | 844,294
2026 | 1,416,026 | 1,117,824 | 824,140
2027 | 1,054,348 | 808,070 | 573,496
2028 | 1,054,361 | 784,543.93 | 535,984
Total | 10,372,739 | 8,705,792 | 7,004,938
Annualized |  | 1,020,584 | 997,345
Note: Values may not add due to rounding.

The total 10-year combined (industry and Government) cost savings is estimated at $17,618,951, non-discounted, with an annualized savings of $1,694,073, discounted at 7 percent. Table 8 provides the total annual estimated cost savings that the Act will provide to the affected stakeholders.

Table 8—Total Cost Savings in $2018
[Pre-statutory baseline]
Year | Vessel owners not submitting renewals | Cost savings | 3% | 7%
2019 | No savings in first year
2020 | 129,780 | $2,021,453 | $1,905,414 | $1,765,616
2021 | 123,205 | 1,919,041 | 1,756,194 | 1,566,509
2022 | 115,317 | 1,796,178 | 1,595,881 | 1,370,295
2023 | 115,317 | 1,796,184 | 1,549,404 | 1,280,655
2024 | 115,317 | 1,796,184 | 1,504,276 | 1,196,874
2025 | 147,846 | 2,302,856 | 1,872,433 | 1,434,103
2026 | 154,419 | 2,405,237 | 1,898,716 | 1,399,870
2027 | 114,978 | 1,790,897 | 1,372,574 | 974,129
2028 | 114,979 | 1,790,920 | 1,332,612 | 910,413
Total |  | 17,618,951 | 14,787,504 | 11,898,463
Annualized |  |  | 1,733,546 | 1,694,073
Note: Values may not add due to rounding.

In addition to estimating the normal savings for this rule, we use the perpetual period of analysis for observing the long-term affect this assessment will have on the affected population. Therefore, we estimate the total annualized cost savings of the 2018 Act at $1.49 million in 2016 dollars, using a 7-percent discount rate.

Final Rule Regulatory Impacts

As previously stated, under a no-action baseline, this final rule produces no impact on the regulated industry. The rule is merely harmonizing current practices implemented by the 2018 Authorization Act with 46 CFR part 67. The impacts presented above are measured against a pre-statutory baseline and represent the result of the 2018 Act, which this rule codifies.

Alternatives

The Coast Guard did not examine any alternatives for this final rule as this rule is mandated by Congress under the Coast Guard Authorization Act of 2018. The 2018 Act requires that Coast Guard issue recreational Certificates of Documentation with a validity of 5 years, thereby reducing the amount of annual reporting burden vessel owners incur each year. The Coast Guard is promulgating this rule to comply with statute and may not adopt a different renewal period or pursue any other alternatives.

B. Small Entities

The term “small entities” comprises small businesses, not-for-profit organizations that are independently owned and operated and are not dominant in their fields, and governmental jurisdictions with populations of less than 50,000. This rule is not preceded by a notice of proposed rulemaking and is, therefore, exempt from the requirements of the Regulatory Flexibility Act (5 U.S.C. 601-612). The Regulatory Flexibility Act does not apply when notice and comment rulemaking is not required.

C. Assistance for Small Entities

Under section 213(a) of the Small Business Regulatory Enforcement Fairness Act of 1996, Public Law 104-121, we want to assist small entities in understanding this rule so that they can better evaluate its effects on them and participate in the rulemaking. If the rule will affect your small business, organization, or governmental jurisdiction and you have questions concerning its provisions or options for compliance, please contact the person in the FOR FURTHER INFORMATION CONTACT section of this rule. The Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This final rule codifies the 2018 Act, which results in a change to an existing collection of information under the Paperwork Reduction Act of 1995, 44 U.S.C. 3501-3520. As defined in 5 CFR 1320.3(c), “collection of information” comprises reporting, recordkeeping, monitoring, posting, labeling, and other similar actions. The title and description of the information collections, a description of those who must collect the information, and an estimate of the total annual burden follow. The estimate covers the time for reviewing instructions, searching existing sources of data, gathering and maintaining the data needed, and completing and reviewing the collection.

Title: Vessel Documentation.

OMB Control Number: 1625-0027.

Summary of the Collection of Information: This final rule, by harmonizing with the 2018 Act, modifies the existing Certification of Documentation (COD) reporting and recordkeeping requirements in § 67.163(c), which will amend current reporting. The current regulation requires owners of recreational vessels of at least 5 net tons to renew their CODs annually. This final rule will codify current industry practice as of January 1, 2019 and will require recreational vessel owners to convert from an annual renewal period to a 5-year renewal period.

Need for Information: The information is being collected for two reasons: (1) The documenting of a U.S. vessel comes with rights as well as responsibilities, which entitle the vessel owners protection under the U.S. flag; (2) vessel documentation is a requirement in satisfying mortgage lender requirements.

Proposed Use of Information: The collection of this information is maintained by the Coast Guard as a matter of record for identifying vessels that will be entitled to protection under U.S. flag. In addition, the certification of a vessel is an obligation to be performed by the vessel owners as part of a financial agreement they have entered into with a mortgage company.

Description of the Respondents: The respondents are the owners of recreational vessels of at least 5 net tons that choose to document their vessels or are required to document their vessels due to financial obligations, which a financial institution may require when a borrower takes out a loan for the purchase of a vessel.

Number of Respondents: The total number of respondents affected is estimated at 162,309, plus an estimated average of 338 new vessels obtaining CODs each year.

Frequency of Response: The final rule codifies the 2018 Act that converts the annual renewal of CODs to a 5-year renewal, reducing the frequency of responses in any given year. From January 1, 2019 to December 31, 2021, owners are allowed to choose their 1 to 5-year renewal period. As of January 1, 2022, owners will only be allowed to apply for 5-year CODs. However, during the first year (2019), 100 percent (162,647) of the affected population sought COD renewals for their vessels. From 2020 on, we take the anticipated annual 9-year average to estimate the potential reduction in frequency of responses required from this information collection request. Hence, we estimate the average number of responses annually will be reduced from 189,614 to 63,930.

Burden of Response: This final rule codifies the 2018 Act and, as a result, will reduce the burden of renewing annual CODs to a 5-year renewal period. Therefore, reduction in time for submitting renewal application forms will decrease by approximately 10,061 hours.

Estimate of Total Annual Burden: The annual reduction in burden is estimated as follows:

(a) Annual reduction in burden resulting from converting annual reporting requirement for recreational vessel of at least 5 net tons to a 5-year renewal period: The final rule codifies the 2018 Act that will reduce the number of CODs requested and approved annually. We estimate that it takes 5 min (0.08 equivalent hours) to send in a vessel documentation renewal. We estimate the total average annual burden or hour reduction for those vessel owners who will not be required to renew their documentation to be 10,054 hours (125,684 * 0.08 hours).

(b) The total reduction in annual burden hours due to the conversion from an annual renewal to a 5-year renewal period: This final rule will result in an estimated average annual reduction in total burden hours in the collection of information from 11,373 to 1,319.

As required by 44 U.S.C. 3507(d), we will submit a copy of this final rule to OMB for its review of the collection of information. You are not required to respond to a collection of information unless it displays a currently valid OMB control number.

E. Federalism

A rule has implications for federalism under Executive Order 13132 (Federalism) if it has a substantial direct effect on States, on the relationship between the national government and the States, or on the distribution of power and responsibilities among the various levels of government. We have analyzed this rule under Executive Order 13132 and have determined that it is consistent with the fundamental federalism principles and preemption requirements described in Executive Order 13132. Our analysis follows.

As explained in Sections II and III above, this rulemaking is needed to conform the regulations to the existing law as amended by the 2018 Act. The 2018 Act requires the Coast Guard to issue CODs for recreational vessels with a period of validity of 5 years, following a phase-in period. The 2018 Act prescribes how the cost of the renewal of such a recreational endorsement must be calculated in both the phase-in period and thereafter. It also requires vessel owners to notify the Coast Guard of each change in the information on which the issuance of the COD for the vessel is based, before the expiration of the COD and no later than 30 days after the change. The 2018 Act also requires that a COD will terminate upon the expiration of the 30-day period if the owner has not notified the Coast Guard of changes within the 30-day timeframe.

Documentation under chapter 121 of title 46, United States Code, including under 46 U.S.C. 12105 as amended by the 2018 Act (see amendments described in the preceding paragraph), is the means by which the Federal government allows a vessel to operate in certain trades, establishes vessel nationality, and enables a vessel to be subject to preferred mortgages. It is well settled that States may not regulate in categories reserved by Congress for regulation by the Coast Guard. It also is well settled that all the categories regulated under 46 U.S.C. 2103, 3103, 3306, 3703, 4102, 4502, 7101, and 8101 (design, construction, alteration, repair, maintenance, operation, equipping, personnel qualification, and manning of vessels), as well as any other category in which Congress intended the Coast Guard to be the sole source of a vessel's obligations, are within the field foreclosed from regulation by the States. See the Supreme Court's decision in United States v. Locke and Intertanko v. Locke, 529 U.S. 89, 120 S.Ct. 1135 (2000). This rule implements changes made by Congress to the comprehensive federal vessel documentation requirements of 46 U.S.C. ch. 121, over which Congress clearly has granted the Coast Guard, via delegation from the Secretary, exclusive authority. Therefore, because the States may not regulate within this category, this rule is consistent with the fundamental federalism principles and preemption requirements described in Executive Order 13132.

While it is well settled that States may not regulate in categories in which Congress intended the Coast Guard to be the sole source of a vessel's obligations, the Coast Guard recognizes the key role that State and local governments may have in making regulatory determinations. The Coast Guard values the input of State and local governments in such matters.

F. Unfunded Mandates

The Unfunded Mandates Reform Act of 1995, 2 U.S.C. 1531-1538, requires Federal agencies to assess the effects of their discretionary regulatory actions. In particular, the Act addresses actions that may result in the expenditure by a State, local, or tribal government, in the aggregate, or by the private sector of $100,000,000 (adjusted for inflation) or more in any one year. Although this rule will not result in such expenditure, we do discuss the effects of this rule elsewhere in this preamble.

G. Taking of Private Property

This rule will not cause a taking of private property or otherwise have taking implications under Executive Order 12630 (Governmental Actions and Interference with Constitutionally Protected Property Rights).

H. Civil Justice Reform

This rule meets applicable standards in sections 3(a) and 3(b)(2) of Executive Order 12988 (Civil Justice Reform) to minimize litigation, eliminate ambiguity, and reduce burden.

I. Protection of Children

We have analyzed this rule under Executive Order 13045 (Protection of Children from Environmental Health Risks and Safety Risks). This rule is not an economically significant rule and will not create an environmental risk to health or risk to safety that might disproportionately affect children.

J. Indian Tribal Governments

This rule does not have tribal implications under Executive Order 13175 (Consultation and Coordination with Indian Tribal Governments), because it will not have a substantial direct effect on one or more Indian tribes, on the relationship between the Federal Government and Indian tribes, or on the distribution of power and responsibilities between the Federal Government and Indian tribes.

K. Energy Effects

We have analyzed this rule under Executive Order 13211 (Actions Concerning Regulations That Significantly Affect Energy Supply, Distribution, or Use). We have determined that it is not a “significant energy action” under that order because it is not a “significant regulatory action” under Executive Order 12866 and is not likely to have a significant adverse effect on the supply, distribution, or use of energy.

L. Technical Standards

The National Technology Transfer and Advancement Act, codified as a note to 15 U.S.C. 272, directs agencies to use voluntary consensus standards in their regulatory activities unless the agency provides Congress, through OMB, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

M. Environment

We have analyzed this rule under Department of Homeland Security Management Directive 023-01, Rev. 1, associated implementing instructions, and Environmental Planning COMDTINST 5090.1 (series), which guide the Coast Guard in complying with the National Environmental Policy Act of 1969 (42 U.S.C. 4321-4370f), and have made a determination that this action is one of a category of actions that do not individually or cumulatively have a significant effect on the human environment. A Record of Environmental Consideration supporting this determination is available in the docket. For instructions on locating the docket, see the ADDRESSES section of this preamble. This rule is categorically excluded under paragraph L57 of Appendix A, Table 1 of DHS Instruction Manual 023-01-001-01, Rev 1. Paragraph L56 pertains to documentation of vessels. This rule involves extending the validity of a recreational vessel endorsement on a Certificate of Documentation.

List of Subjects in 46 CFR Part 67

Reporting and recordkeeping requirements, Vessels.

For the reasons discussed in the preamble, the Coast Guard amends 46 CFR part 67 as follows:

PART 67—DOCUMENTATION OF VESSELS

1. The authority citation for part 67 continues to read as follows:

Authority: 4 U.S.C. 664; 31 U.S.C. 9701; 42 U.S.C. 9118; 46 U.S.C. 2103, 2104, 2107, 12102, 12103, 12104, 12105, 12106, 12113, 12133, 12139; Department of Homeland Security Delegation No. 0170.1.

2. Amend § 67.163 by:

a. Revising paragraph (a) introductory text;

b. Revising paragraph (b); and

c. Adding paragraph (c).

The revisions and addition read as follows:

§ 67.163 Renewal of endorsement.

(a) Requirement for renewal of endorsement. Endorsements on Certificates of Documentation are valid for 1 year, except for Recreational Endorsements on Certificates of Documentation, which are valid for 5 years. However, a Certificate of Documentation with a Recreational Endorsement and a Commercial Endorsement will only be valid for 1 year. Prior to the expiration of an endorsement, the owner of a vessel, which is not exempt from the requirement for documentation under paragraph (c) of § 67.9, must apply for renewal of the endorsement(s) by complying with paragraph (b) of this section. The owner of a vessel exempt from the requirement for documentation under paragraph (c) of § 67.9 must either:

* * * * *

(b) Renewal application. The owner of a vessel must apply for renewal of each endorsement by executing an original Vessel Renewal Notification, Application for Renewal (CG-1280) certifying that the information contained in the Certificate of Documentation and any endorsement(s) thereon remains accurate, and that the Certificate has not been lost, mutilated, or wrongfully withheld. The completed CG-1280 must be sent to the Director, National Vessel Documentation Center.

(c) Requirement for renewal of recreational endorsements. A certificate of documentation for a recreational vessel and the renewal of such a certificate shall be effective for a 5-year period. During the period beginning January 1, 2019, and ending December 31, 2021, the owner of a recreational vessel may choose a period of effectiveness of 1, 2, 3, 4, or 5 years for such a certificate of documentation for such vessel or the renewal thereof.

§ 67.317 [Amended]

3. In § 67.317 amend paragraph (a) by adding, after the introductory phrase, “Except as provided in paragraph (b) of this section,” the text “and except for recreational endorsements, which must be renewed every 5 years,”.

4. Revise § 67.319 to read as follows:

§ 67.319 Requirement to report change in vessel status and surrender Certificate of Documentation.

(a) The owner of a vessel must notify the Coast Guard of each change in the information on which the issuance of the Certificate of Documentation for the vessel is based that occurs before the expiration of the certificate under this subsection, by no later than 30 days after such change.

(b) The Certificate of Documentation for a vessel is terminated upon the expiration of the 30-day period if the owner has not notified the Coast Guard of such change before the end of the period.

§ 67.515 [Amended]

5. In § 67.515, remove the word “annual”.

6. Revise § 67.550 to read as follows:

§ 67.550 Fee table.

The fees charged under subpart Y are as set forth in Table 1 to 67.550.

Table 1 to 67.550—Fees
Activity | Reference | Fee
Applications:
Initial Certificate of Documentation | Subpart K | $133.00
Exchange of Certificate of Documentation | ......do | 84.00
Return of vessel to documentation | ......do | 84.00
Replacement of lost or mutilated Certificate of Documentation | ......do | 50.00
Approval of exchange of Certificate of Documentation requiring mortgagee consent | ......do | 24.00
Trade endorsement(s):
Coastwise endorsement | Subpart B | 29.00
Coastwise Boaters endorsement | 46 CFR part 68 | 29.00
Fishery endorsement | ......do | 12.00
Registry endorsement | ......do | none
Recreational endorsement | ......do |
Recreational vessel endorsements (5-year) |  | 130.00
Through December 31, 2021: |  |
4-year recreational vessel endorsement |  | 104.00
3-year recreational vessel endorsement |  | 78.00
2-year recreational vessel endorsement |  | 52.00
1-year recreational vessel endorsement |  | 26.00
Note 1: When multiple trade endorsements are requested on the same application, the single highest applicable endorsement fee will be charged, resulting in a maximum endorsement fee of $29.00. This does not apply to recreational endorsements.
Evidence of deletion from documentation | Subpart L | 15.00
Renewal fee | ......do | 26.00
Commercial vessel endorsements (annual) | ......do | 26.00
Recreational vessel endorsements (5-year) |  | 130.00
Through December 31, 2021:
4-year recreational vessel endorsement |  | 104.00
3-year recreational vessel endorsement |  | 78.00
2-year recreational vessel endorsement |  | 52.00
1-year recreational vessel endorsement |  | 26.00
Late renewal fee | ......do | ¹ 5.00
Waivers:
Original build evidence | Subpart F | 15.00
Bill of sale eligible for filing and recording | Subpart E | 15.00
Miscellaneous applications:
Wrecked vessel determination | Subpart J | 555.00
New vessel determination | Subpart M | 166.00
Rebuild determination—preliminary or final | ......do | 450.00
Filing and recording:
Bills of sale and instruments in nature of bills of sale | Subpart P | ² 8.00
Mortgages and related instruments | Subpart Q | ² 4.00
Notice of claim of lien and related instruments | Subpart R | ² 8.00
Certificate of compliance:
Certificate of compliance | 46 CFR part 68 | 55.00
Miscellaneous:
Abstract of Title | Subpart T | 25.00
Certificate of ownership | ......do | 125.00
Attachment for each additional vessel with same ownership and encumbrance data | ......do | 10.00
Copy of instrument or document | (³) | (³)
¹ Late renewal fee is in addition to the cost of the endorsement sought.
² Per page.
³ Fees will be calculated in accordance with 6 CFR part 5, subpart A.

Dated: January 8, 2021.
R.V. Timme,
Rear Admiral, U.S. Coast Guard,Assistant Commandant for Prevention Policy.

[FR Doc. 2021-00526 Filed 1-15-21; 8:45 am]

BILLING CODE 9110-04-P